DEPARTMENT OF STATE

[Public Notice 5344]

Bureau of Educational and Cultural Affairs (ECA) Request for Grant Proposals: Benjamin Franklin Transatlantic Fellows Initiative: Summer Institute for Youth

Announcement Type: New Grant.

Funding Opportunity Number: ECA/PE/C/PY-06-49.

Catalog of Federal Domestic Assistance Number: 00.000.

DATES: Key Dates: Application Deadline: April 27, 2006.

Executive Summary: The Office of Citizen Exchanges, Youth Programs Division, of the Bureau of Educational and Cultural Affairs (ECA) announces an open competition for the Summer Institute for Youth, a project under the Benjamin Franklin Transatlantic Fellows Initiative. Public and private non-profit organizations meeting the provisions described in Internal Revenue Code section 26 U.S.C. 501(c)(3), including accredited, post-secondary U.S. educational institutions, may submit proposals to provide a three-week U.S.-based institute in the summer of 2006 for up to 40 teenagers aged 16-19 from Europe, Eurasia, and the United States focused on civic education, leadership development, and community activism as a way to unite young adults across the Atlantic Ocean. Please note: Funding for this program will be provided from FREEDOM Support and SEED Act transfers. This program will be funded pending the successful transfer of funds to ECA.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program is provided through the Support for East European Democracy (SEED) Act (1989) and the FREEDOM Support Act (FSA) legislation of 1992.

Overview: The Benjamin Franklin Transatlantic Fellows Initiative aims to foster relationships among the younger generation of Europeans and Americans in order to advance the global freedom agenda, to serve as a basis to build strong links and awareness of shared values, and to enable youth to face together the challenges of global circumstances in the 21st Century. The initiative is named after the legendary American statesman and diplomat in honor of the inspiration his own life and career provides those who want to increase transatlantic cooperation.

The Benjamin Franklin Transatlantic Fellows Initiative: Summer Institute for Youth will enable teenagers (ages 16-19) to participate in an intensive, three-week exchange program in the United States that focuses on the global issues that European and American youth face on both sides of the Atlantic Ocean. Participants will be engaged in a variety of activities such as training sessions, workshops, community and/or school-based programs, and cultural events. Participants will work together to prepare a joint project that presents and promotes the Institute's stated goals and objectives.

Goals: The goals of the Transatlantic Fellows Program are (1) to develop a sense of civic responsibility and a commitment to transatlantic cooperation among youth; (2) to foster relationships among youth from different ethnic, religious, and national groups; (3) to promote mutual understanding between the United States and Europe/Eurasia; and (4) to develop a cadre of youth leaders who will share their knowledge and skills with their peers through positive action.

With the specific focus of this Institute, the following outcomes will indicate a successful project:

• Participants will work together to identify and overcome misunderstanding or lack of understanding among nations both during the Institute and after they return to their homes.

• Participants will develop critical thinking skills that will enable them to judge how effectively various media convey factual information to present accurate images of diverse cultures.

• Participants will demonstrate a better understanding of U.S.-Europe relations and issues.

• Participants will gain an understanding of the roles of the media and public perceptions in diplomacy.

Theme: In today's terms, Benjamin Franklin could be called a transatlantic man, someone whose career, interests, studies and life took him back and forth across the Atlantic Ocean, bringing Americans and Europeans closer in understanding. His life offers inspiration to young citizens of today in the effort to bridge the Atlantic, even 300 years later. As a diplomat and a printer, he leveraged the power of diplomacy and of the media to explore how Americans and Europeans see each other. This summer Institute will guide the participants to examine what Americans and Europeans need to know about each other to better communicate person to person, and to face the many challenges of the 21st Century together.

The Institute will also explore how young people interact with media, both as consumers and producers of information, and how freedom of expression imposes both rights and responsibilities on citizens. Increasingly young people have come to rely upon mass communication—the use of words, sounds, and images by a few to inform, educate, entertain and persuade the many—to learn about the world they inhabit. Mass media not only supplies factual information, it also expresses cultural preferences, promotes value systems, and fuels commerce through advertising and product placement. The program should provide the participants with a new perspective on their learning, networking, U.S.-Europe perceptions of each other, the communities they live in, and the broader media culture.

Who: The participants will be up to 40 students ages 16-19 from Europe, Eurasia, and the United States. One or two students will come from each participating country, except for the United States, which will have up to ten representatives. We expect that eight participants will represent SEED countries and 12 will represent FSA countries (see POGI for lists). U.S. Embassies will screen and select the overseas participants from a pool of students with whom they have contact. All countries of Europe and Eurasia will be eligible to nominate participants; the State Department will be responsible for the final selection of participants and the countries they will represent. U.S. Embassies will arrange and pay for the Europeans' international travel to and from the United States (see details in the POGI). The grant recipient will be responsible for recruiting and selecting the U.S. participants. All students must be able to participate fully in English.

The grant recipient should also arrange for highly qualified mentors at a ratio of six students to one mentor. Mentors may serve as trainers as appropriate. The delegation should have an adult accompany them on transatlantic flights, and adult staff should be available to support the participants during the course of the Institute.

When: Applicants should propose a three-week U.S. institute that will take place between June and August 2006.

Where: The Institute will take place on a U.S. university or college campus or at a similar venue. Ideally, the venue selected will be on or near a campus with a European Studies center. Students will be housed together at a dormitory on campus, as staying together will facilitate regional cooperation on the project and training. The Bureau strongly encourages weekend homestays or home hospitality to ensure that participants get a taste of typical American family life.

A study trip should be planned to Philadelphia to visit key Benjamin Franklin commemorative sites and events. See the Benjamin Franklin Tercentenary Web site: http://www.benfranklin300.org The Institute may take place in one or two communities (including or in addition to the Philadelphia study trip) and should offer the participants exposure to the variety of American life.

What: The program should focus primarily on the exploration of global issues through interactive activities, practical experiences, and other hands-on opportunities, through which the participants will learn more about democratic practices, volunteer service, conflict resolution, critical thinking, tolerance and respect for diversity, and youth leadership. All programming should include additional American participants wherever possible. Cultural and recreational activities will balance the schedule.

A. Training and Joint Project

Before and during the Institute, students will gather information on Americans' views of Europeans and on Europeans' views of the United States about one or two areas of common or global interest, such as sustainable development, inter-ethnic cooperation, or world poverty. They will also identify and address stereotypes they hold of others. The students will gather information via the Internet and various forms of the media, through interviews with ordinary citizens and experts—including academics and diplomats—and by other methods, such as designing and conducting a survey. Students will focus on attitudes of their contemporaries and those closely linked, such as teachers or family members.

Training will focus on developing a critical reading of printed, broadcast, and electronic media. The students should increase their awareness of the levels of communication in news and popular media, to be able to judge the content and accuracy for themselves. The objective of this training is to enable them to gather the information needed to create the materials for the project described below. Training will cover communication skills, problem solving, and team building.

Finally, students will design simple educational materials, an outreach campaign, a newsletter, or another type of project (for example, an Internet based project linking selected American and European schools/students with each other).

B. Community Service

The participants will take part in at least one community service activity during the U.S. program to demonstrate American volunteerism. The program should provide context for the participants to undertake the service activity—identifying community needs, the nature of volunteerism, charitable giving, etc.—and a debriefing so that the service activity is not an isolated event and to help participants see how they could apply the experience at home.

In addition to this community service, the participants reach out to American youth by presenting and testing the educational materials described above to young American audiences, such as students in summer school or in another organized summer activity. Upon their return home, European participants will develop, test, and present the materials with young audiences in their home countries.

Applicant organizations must demonstrate their capacity for doing projects of this nature, focusing on three areas of competency: (1) Provision of programs that address the goals and themes outlined in this document; (2) age-appropriate programming for youth; and (3) previous experience in working in Europe and/or Eurasia. Applicant organizations should be able to help U.S. embassies support follow-on activities for the alumni of the U.S.-based Institute.

The Bureau reserves the right to reduce, revise, or increase proposal budgets in accordance with the needs of the program and the availability of funds. The Bureau also reserves the right to renew this grant in future years contingent upon the successful performance of the grant recipient and the availability of funding.

Guidelines: Pending the transfer and availability of funds, the grant will begin on or about June 5, 2006. The grant period will be 10 to 12 months in duration, as appropriate.

The grant recipient will be responsible for the following:

• Recruitment, screening, and selection of American participants.

• Designing and planning of activities in the United States that provide a substantive program that promotes transatlantic dialogue, critical thinking, democracy and tolerance, media analysis, leadership development, civic education, and community service. Some activities should be school and/or community-based, as feasible, and the projects will involve as much interaction with American peers, even beyond those directly participating in the Institute, as possible.

• Logistical arrangements, home-stay arrangements (as appropriate) and/or other accommodation, disbursement of stipends/per diem, local travel, and travel between sites.

• Follow-on activities in the participants' home countries designed to reinforce the ideas, values, and skills imparted during the U.S. program.

Proposals must demonstrate how the stated objectives will be met. The proposal narrative should provide detailed information on the major program activities, and applicants should explain and justify their programmatic choices. Programs must comply with J-1 visa regulations for the International Visitor category. Please be sure to refer to the complete Solicitation Package—this RFGP, the Project Objectives, Goals, and Implementation (POGI), and the Proposal Submission Instructions (PSI)—for further information.

II. Award Information

Type of Award: Grant Agreement.

Fiscal Year Funds: 2006.

Approximate Total Funding: $171,750.

Approximate Number of Awards: One.

Anticipated Award Date: June 5, 2006. (Pending the transfer of funds to ECA).

Anticipated Project Completion Date: 10-12 months after start date, to be specified by applicant based on project plan.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs. When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: (a.) Bureau grant guidelines require that organizations with less than four years experience in conducting international exchanges be limited to $60,000 in Bureau funding. ECA anticipates awarding a grant in an amount over $60,000 to support program and administrative costs required to implement this exchange program. Therefore, organizations with less than four years experience in conducting international exchanges are ineligible to apply under this competition. The Bureau encourages applicants to provide maximum levels of cost sharing and funding in support of its programs.

IV. Application and Submission Information

Note: Please read the complete announcement before sending inquiries or submitting proposals. Once the RFGP deadline has passed, Bureau staff may not discuss this competition with applicants until the proposal review process has been completed.

IV.1. Contact Information to Request an Application Package: Please contact the Youth Programs Division (ECA/PE/C/PY), Room 568, U.S. Department of State, SA-44, 301 4th Street, SW., Washington, DC 20547, Telephone (202) 203-7505, Fax (202) 203-7529, E-mail: LantzCS@state.gov to request a Solicitation Package. Please refer to the Funding Opportunity Number (ECA/PE/C/PY-06-49) located at the top of this announcement when making your request.

Alternatively, an electronic application package may be obtained from grants.gov. Please see section IV.3f for further information.

The Solicitation Package contains the Proposal Submission Instruction (PSI) document, which consists of required application forms and standard guidelines for proposal preparation.

It also contains the Project Objectives, Goals and Implementation (POGI) document, which provides specific information, award criteria, and budget instructions tailored to this competition.

Please specify Bureau Program Officer Carolyn Lantz and refer to the Funding Opportunity Number located at the top of this announcement on all other inquiries and correspondence.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa: The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 203-5029. Fax: (202) 453-8640.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Awards may not exceed the amounts specified. There must be a summary budget as well as breakdowns reflecting both administrative and program budgets. Applicants may provide separate sub-budgets for each program component, phase, location, or activity to provide clarification.

Please refer to the other documents in the Solicitation Package for complete budget guidelines and formatting instructions.

IV.3f. Application Deadline and Methods of Submission: Application Deadline Date: April 24, 2006. Reference Number: ECA/PE/C/PY-06-49.

Methods of Submission

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original, one fully-tabbed copy, and six copies of the application with Tabs A-E (for a total of 8 copies) should be sent to: U.S. Department of State, SA-44, Bureau of Educational and Cultural Affairs, Ref.: ECA/PE/C/PY-06-49, Program Management, ECA/EX/PM, Room 534, 301 4th Street, SW., Washington, DC 20547.

Along with the Project Title, all applicants must enter the above Reference Number in Box 11 on the SF-424 contained in the mandatory Proposal Submission Instructions (PSI) of the solicitation document.

Applicants must also submit the executive summary, proposal narrative, budget section, and any important appendices as e-mail attachments in Microsoft Word and Excel to the following e-mail address: LantzCS@state.gov. In the e-mail message subject line, include the name of the applicant organization and the partner country. The Bureau will transmit these files electronically to the Public Affairs Sections of the relevant U.S. Embassies for review.

IV.3f.2 Submitting Electronic Applications: Applicants have the option of submitting proposals electronically through Grants.gov (http://www.grants.gov). Complete solicitation packages are available at Grants.gov in the “Find” portion of the system. Please follow the instructions available in the ‘Get Started’ portion of the site (http://www.grants.gov/GetStarted).

Applicants have until midnight (12 a.m.) of the closing date to ensure that their entire applications have been uploaded to the grants.gov site. Applications uploaded to the site after midnight of the application deadline date will be automatically rejected by the grants.gov system, and will be technically ineligible.

Applicants will receive a confirmation e-mail from grants.gov upon the successful submission of an application. ECA will not notify you upon receipt of electronic applications.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Please see the review criteria in the accompanying Project Objectives, Goals, and Implementation (POGI) document.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants.

http://exchanges.state.gov/education/grantsdiv/terms.htm#articleI.

VI.3. Reporting Requirements: You must provide ECA with a hard copy original plus one copy of the following reports:

A final program and financial report no more than 90 days after the expiration of the award;

Interim reports, as required in the Bureau grant agreement.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three workdays prior to the official opening of the activity.

VII. Agency Contacts

For questions about this announcement, contact: Carolyn Lantz, Program Officer, Youth Programs Division (ECA/PE/C/PY), Room 568, U.S. Department of State, SA-44, 301 4th Street, SW., Washington, DC 20547, Telephone (202) 203-7505, Fax (202) 203-7529, E-mail: LantzCS@state.gov.

All correspondence with the Bureau concerning this RFGP should reference the above title and number ECA/PE/C/PY-06-49.

Please read the complete announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 10, 2006.
C. Miller Crouch,
Principal Deputy Assistant Secretary, Bureau of Educational and Cultural Affairs, Department of State.

[FR Doc. E6-3835 Filed 3-15-06; 8:45 am]

BILLING CODE 4710-05-P